NATIONAL AERONAUTICS AND SPACE ADMINISTRATION

[Notice (10-109)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 8, 2010.

FOR FURTHER INFORMATION CONTACT: Randy Heald, Patent Counsel, Kennedy Space Center, Mail Code CC-A, Kennedy Space Center, FL 32899; telephone (321) 867-7214; fax (321) 867-1817.

NASA Case No. KSC-12723-DIV: Coatings and Methods for Corrosion Detection and/or Reduction; NASA Case No. KSC-13047: Insulation Test Cryostat with Lift Mechanism.

Dated: September 1, 2010.
Richard W. Sherman,
Deputy General Counsel.

[FR Doc. 2010-22386 Filed 9-7-10; 8:45 am]

BILLING CODE P